DEPARTMENT OF THE INTERIOR

Bureau of Land Management

[BLM_AK_FRN_MO4500183122; AKAK106400581; F-86061, AKAK106577809; F-16301, AKAK106460876; AA-61299, AKAK106577812; F-16304, AKAK106560439; F-85667, AKAK106397277; AA-61005, AKAK106560451; F-85702, and AKAK106400580; F-86060]

Public Land Order No. 7952; Partial Revocation of Public Land Order Nos. 5169, 5173, 5179, 5180, 5184, 5186, 5188, and 5242, as Amended, Modified, or Corrected, and Opening of Additional Lands for Selection by Alaska Native Vietnam-era Veterans; Alaska

AGENCY: Bureau of Land Management, Interior.

ACTION: Public Land Order.

SUMMARY: This order partially revokes eight Public Land Orders (PLOs) insofar as they affect approximately 11,163,252 acres of public lands in the Central Yukon area of Alaska and opens these lands to allow for allotment selection by eligible Alaska Native Vietnam-era Veterans and possible conveyance under the Alaska Native Vietnam-era Veterans Land Allotment Program (Allotment Program) established by the John D. Dingell, Jr. Conservation, Management, and Recreation Act of 2019 (Dingell Act).

DATES: This PLO takes effect on November 21, 2024.

FOR FURTHER INFORMATION CONTACT: Brittany Templeton, Realty Specialist, Bureau of Land Management (BLM) Alaska State Office, 222 West Seventh Avenue, Mailstop #13, Anchorage, AK 99513-7504, (907) 271-4214, or btempleton@blm.gov. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: The eight PLOs revoked in part by this order were established pursuant to Executive Order 10355 and section 17(d)(1) of the Alaska Native Claims Settlement Act (ANCSA). The BLM analyzed partial revocation of these PLOs and opening of the affected lands for allotment selections and possible conveyances under the Allotment Program in the Central Yukon Proposed Resource Management Plan (RMP) and Final Environmental Impact Statement. This order implements the recommendation in BLM's Record of Decision approving the Central Yukon RMP to open ANCSA 17(d)(1) lands to allotment selection under the Allotment Program, except where the ANCSA 17(d)(1) withdrawals overlap with PLO No. 5150, as amended, modified, or corrected.

Before approving the Central Yukon RMP, BLM analyzed the effects of this action and determined, pursuant to section 810 of the Alaska National Interest Lands Conservation Act, that this action would not significantly restrict subsistence uses or have a disproportionate negative effect on environmental justice communities.

PLO No. 5169 and 5173, as amended, modified, or corrected, withdrew public lands for selection by Village and Regional Corporations under section 11(a)(3) of ANCSA, and for classification. PLO No. 5179, as amended, modified, or corrected, withdrew public lands in aid of legislation concerning addition to, or creation of, units of the National Park, National Forest, Wildlife Refuge, and Wild and Scenic Rivers systems, and to allow for classification of the lands. PLO No. 5180, as amended, modified, or corrected, withdrew public lands to allow for classification and for the protection of the public interest in these lands. PLO No. 5184, as amended, modified, or corrected, withdrew public lands to allow for classification or reclassification of some of areas withdrawn by section 11 of ANCSA. PLO No. 5186, as amended, modified, or corrected, withdrew public lands for classification and protection of the public interest in lands not selected by the State of Alaska. PLO No. 5188, as amended, modified, or corrected, withdrew the lands in former reservations for classification and protection of the public interest for the use and benefit of Alaska Natives pursuant to section 17(d)(1) of ANCSA. PLO No. 5242, as amended, modified, or corrected, withdrew lands pending determination of certain Native communities under section 11(b)(3) of ANCSA, and classification of lands not conveyed pursuant to section 14 of ANCSA.

Order

By virtue of the authority vested in the Secretary of the Interior by section 204 of the Federal Land Policy and Management Act of 1976, 43 U.S.C. 1714, and section 17(d)(1) of the Alaska Native Claims Settlement Act of 1971, 43 U.S.C. 1616(d)(1), it is ordered as follows:

1. Subject to valid existing rights, Public Land Order No. 5169 (37 FR 5572), 5173 (37 FR 5575), 5179 (37 FR 5579), 5180 (37 FR 5583), 5184 (37 FR 5588), 5186 (37 FR 5589), 5188 (37 FR 5591), and 5242 (37 FR 15513) and any amendments, modifications, or corrections to these Orders, are hereby partially revoked to allow for allotment selection under the Allotment Program, and for no other purposes, insofar as they affect the following described Federal lands in the Central Yukon planning area:

Fairbanks Meridian, Alaska

T. 2 N., R. 1 E.,

Sec. 19, lot 2.

T. 26 N., R. 1 E., unsurveyed,

Secs. 1 thru 25.

T. 26 N., R. 2 E., unsurveyed,

Sec. 3;

Secs. 4 and 5, excepting U.S. No. Survey 12476;

Secs. 6 thru 11, secs. 14 thru 22, and Sec. 30.

T. 26 N., R. 1 W., unsurveyed,

Secs. 1 thru 24 and secs. 27 and 28;

Sec. 29, excepting U.S. Survey No. 13893;

Sec. 30.

T. 1 N., R. 2 W.,

Sec. 21, W½NW¼NW¼SE¼;

Sec. 28, that portion excluded from Tentative Approvals F-028735 issued February 20, 1985, and March 3, 1998;

Sec. 30, lots 1 thru 12;

Sec. 32, that portion excluded from Tentative Approval F-028735 issued February 20, 1985;

Sec. 33, that portion excluded from Tentative Approvals F-028735 issued February 20, 1985, and March 3, 1998;

tract 38, those portions excluded from Mental Health Approval F-031637 issued March 11, 2008;

tracts 40, 41, and 43;

M.S. Nos. 2081, 2409, 2485, and 2530.

T. 26 N., R. 2 W., unsurveyed,

Secs. 1 thru 28.

T. 1 N., R. 3 W.,

lot 1, U.S. Survey No. 4012.

T. 26 N., R. 3 W., unsurveyed,

Secs. 1 thru 24.

T. 26 N., R. 4 W., unsurveyed,

Secs. 1 thru 24 and Secs. 26 thru 29.

T. 25 N., R. 5 W., unsurveyed,

Secs. 5 thru 8;

Sec. 17, N½;

Sec. 18, N½.

T. 26 N., R. 5 W., unsurveyed,

Secs. 1 thru 21;

Sec. 23, N½ and SE¼;

Sec. 24 and Secs. 28 thru 33.

T. 5 N., R. 6 W.,

lots 1 and 2, U.S. Survey No. 5610A.

T. 6 N., R. 6 W.

T. 7 N., R. 6 W.,

lot 1, U.S. Survey No. 9253.

T. 25 N., R. 6 W., unsurveyed,

Secs. 1 thru 12;

Sec. 13, N½;

Sec. 14, N½ and SW¼;

Secs. 15 thru 22;

Sec. 23 W½;

Sec. 26 NW¼;

Sec. 27, N½;

Sec. 28, N½;

Secs. 29 and 30.

T. 26 N., R. 6 W., unsurveyed.

T. 34 N., R. 6 W., unsurveyed,

Secs. 4 thru 9, Secs. 16 thru 21, and Secs. 28 thru 33.

T. 35 N., R. 6 W., unsurveyed,

Secs. 19, 20, and 21 and Secs. 28 thru 33.

T. 1 N., R. 7 W.,

U.S. Survey No. 5096.

T. 6 N., R. 7 W.,

Sec. 17, that portion excluded from Interim Conveyance Nos. 587 and 588 as material site right-of-way F-025508;

Sec. 30, that portion excluded from Interim Conveyance Nos. 587 and 588 as material site right-of-way F-025509.

T. 7 N., R. 7 W.

T. 24 N., R. 7 W., unsurveyed,

Secs. 2 thru 8.

Tps. 25 thru 28 N., R. 7 W., unsurveyed.

T. 29 N., R. 7 W., unsurveyed,

Secs. 19, 20, 21, 35, and 36.

T. 33 N., R. 7 W., unsurveyed,

Secs. 1, 2, 3, 10, and 11.

T. 34 N., R. 7 W., unsurveyed,

Secs. 22 thru 27 and Secs. 34, 35, and 36.

T. 35 N., R. 7 W., unsurveyed,

Sec. 18.

T. 3 N., R. 8 W.,

Sec. 1.

T. 4 N., R. 8 W.,

Secs. 10 thru 14, Secs. 23 thru 26, and Secs. 35 and 36.

T. 7 N., R. 8 W.

T. 24 N., R. 8 W., unsurveyed,

Sec. 1;

Sec. 2, E½;

Sec. 11, E½;

Sec. 12.

T. 25 N., R. 8 W., unsurveyed,

Secs. 1 thru 27;

Sec. 28, E½;

Sec. 30, W½;

Secs. 34, 35, and 36.

Tps. 26 and 27 N., R. 8 W., unsurveyed.

T. 28 N., R. 8 W., unsurveyed,

Secs. 1, 2, and 3 and Secs. 10 thru 36.

T. 29 N., R. 8 W., unsurveyed.

T. 5 N., R. 9 W.,

Tract A, that portion described as (protracted) Sec. 31.

T. 24 N., R. 9 W., unsurveyed,

Secs. 4, 5, and 6.

T. 25 N., R. 9 W., unsurveyed,

Secs. 1 thru 34;

Sec. 35, N½ and SW¼;

Sec. 36, NW¼.

T. 26 N., R. 9 W.,

Secs. 1 thru 6, Secs. 9 thru 16, and Secs. 20 thru 36, unsurveyed.

T. 27 N., R. 9 W., unsurveyed.

T. 29 N., R. 9 W., unsurveyed,

Secs. 23 thru 26 and Secs. 34, 35, and 36.

T. 2 N., R. 10 W.,

Sec. 10, lots 1, 2, and 4;

Tract H;

Tracts K and L, those portions described as (protracted) Secs. 8 and 9;

U.S. Survey No. 4450-C.

T. 3 N., R. 10 W.,

Sec. 34.

T. 4 N., R. 10 W.,

Sec. 1;

Tract A, those portions described as (protracted) Secs. 25, 26, 27, 34, 35, and 36.

T. 5 N., R. 10 W.,

Sec. 26, that portion excluded from Interim Conveyance Nos. 587 and 588 as material site right-of-way F-025521;

Secs. 27 thru 30;

Secs. 31 and 32, those portions excluded from Interim Conveyance Nos. 587 and 588 as material site right-of-way F-025524;

Sec, 33, that portion excluded from Interim Conveyance Nos. 587 and 588 as material site right-of-way F-025522;

Sec. 35, that portion excluded from Interim Conveyance Nos. 587 and 588 as material site right-of-way F-025521.

Tps. 8 and 10 N., R. 10 W.,

T. 22 N., R. 10 W., unsurveyed,

Secs. 3 thru 9 and Secs. 17, 18, and 19.

T. 23 N., R. 10 W., unsurveyed,

Secs. 1 thru 23 and Secs. 27 thru 34.

T. 24 N., R. 10 W., unsurveyed,

Secs. 1 thru 10, Secs. 15 thru 22, and Secs. 26 thru 35.

T. 25 N., R. 10 W., unsurveyed.

T. 26 N., R. 10 W.,

Secs. 1 thru 12, Secs. 25 thru 29, and Secs. 31 thru 36, unsurveyed.

T. 27 N., R. 10 W., unsurveyed.

T. 28 N., R. 10 W., unsurveyed,

Secs. 19 thru 36.

T. 10 N., R. 11 W.,

Secs. 1 and 2, Secs. 4 thru 8, Secs. 11, 12, and 13, Secs. 17 thru 20, and Secs. 29, 30, and 36.

T. 17 N., R. 11 W., unsurveyed,

Secs. 6, 7, 18, and 19 and Secs. 29 thru 32.

T. 18 N., R. 11 W., unsurveyed,

Secs. 6, 7, 18, 19, 30, and 31.

T. 19 N., R. 11 W., unsurveyed,

Sec. 31.

T. 21 N., R., 11 W., unsurveyed,

Secs. 4 thru 9, Secs. 17 thru 20, and Secs. 29 and 30.

T. 22 N., R. 11 W., unsurveyed,

Secs. 1 thru 34.

Tps. 23, 24, and 25 N., R. 11 W., unsurveyed.

T. 26 N., R. 11 W.,

Secs. 1 thru 12, Secs. 14 thru 18, and Secs. 20, 21, 34, 35, and 36, unsurveyed.

T. 5 N., R. 12 W.,

U.S. Survey No. 11811.

T. 7 N., R. 12 W.,

M.S. Nos. 421 and 2404.

T. 9 N., R. 12 W.,

Secs. 9 thru 17 and Secs. 21, 22, 26, 27, and 34.

T. 11 N., R. 12 W.,

Secs. 1 thru 17;

Sec. 18, excepting U.S. Survey No. 14451;

Secs. 19 thru 36.

T.12 N., R. 12 W.

T. 19 N., R. 12 W., unsurveyed,

Secs. 2 thru 11, Secs. 13 thru 24, and Secs. 26 thru 36.

T. 20 N., R. 12 W., unsurveyed,

Secs. 2 thru 11, Secs. 14 thru 23, and Secs. 26 thru 35.

Tps. 21 thru 24 N., R. 12 W., unsurveyed,

T. 29 N., R. 13 W.,

Sec. 23, that portion lying outside the boundary of Gates of the Arctic National Park;

Sec. 24;

Secs. 25, 26, 35, and 36, those portions lying outside the boundary of Gates of the Arctic National Park.

T. 11 N., R. 14 W., unsurveyed.

T. 12 N., R. 14 W., unsurveyed.

Sec. 1;

Sec. 2, excepting lot 3, U.S. Survey No. 6741 and U.S. Survey No. 6866;

Sec. 3, excepting lots 2 and 3, U.S. Survey No. 6741;

Secs. 4 thru 8;

Sec. 9, excepting U.S. Survey No. 6317 and lot 1, U.S. Survey No. 6741;

Sec. 10, excepting U.S. Survey No. 6741;

Sec. 11, excepting lot, 3, U.S. Survey No. 6741 and U.S. Survey No. 6866;

Secs. 12 thru 19;

Sec. 20, excepting U.S. Survey No. 8383;

Secs. 21 thru 36.

Tps. 13 and 14 N., R. 14 W., unsurveyed.

T. 28 N., R. 14 W.,

Secs. 13, 24, 25, 35, and 36, those portions lying outside the boundary of Gates of the Arctic National Park.

T. 8 N., R. 15 W.,

Sec. 21, NE¼.

Tps. 9 thru 16 N., R. 15 W., unsurveyed.

T. 26 N., R. 15 W., unsurveyed,

Secs. 25 thru 29 and Secs. 31 and 32, those portions lying outside the boundary of Gates of the Arctic National Park;

Secs. 33 and 34;

Secs. 35 and 36, those portions lying outside the boundary of Gates of the Arctic National Park.

T. 3 N., R. 16 W.,

Tract B, those portions of (protracted) sections 6, 7, 17, and 18, excluded from Tentative Approvals F-89353 issued June 11, 2012, and August 28, 2014; that portion of (protracted) sec. 19 excluded from Tentative Approvals F-026787 issued October 15, 2009, and August 28, 2014.

T. 4 N., R. 16 W.,

Sec. 31, that portion excluded from Tentative Approval F-026919 issued December 5, 1996.

T. 7 N., R. 16 W.,

Secs. 4, 5, 6, and 8.

Tps. 8 thru 12 N., R. 16 W., unsurveyed.

T. 13 N., R. 16 W., unsurveyed,

Secs. 1 thru 9;

Sec. 10, excepting lot 2, U.S. Survey No. 14273;

Secs. 11 thru 14;

Sec. 15, excepting lot 2, U.S. Survey No. 14273;

Secs. 16 thru 36.

T. 14 N., R. 16 W., unsurveyed.

T. 15 N., R. 16 W.,

Secs. 1 thru 4, unsurveyed;

Sec. 5, E½, unsurveyed;

Sec. 8, E½, unsurveyed;

Secs. 9 thru 17, unsurveyed;

Sec. 18 E½, unsurveyed;

Sec. 19, NE¼ and S½, unsurveyed;

Secs. 20 thru 36, unsurveyed.

Tps. 16, 17, and 18 N., R. 16 W., unsurveyed.

T. 4 N., R. 17 W.,

Sec. 36, that portion excluded from Tentative Approval F-23238 issued December 28, 1982.

T. 6 N., R. 17 W.,

Secs. 10 and 11, Secs. 14 thru 17, and Secs. 20 thru 23, those portions excluded from Tentative Approval No. F-44193, issued March 17, 1992, as Power Site Classification No. 403.

T. 7 N., R. 17 W.,

Secs. 1 thru 19, and Sec. 22.

Tps. 8 thru 13 N., R. 17 W., unsurveyed.

T. 14 N., R. 17 W.,

Secs. 1 and 2, unsurveyed;

Sec. 3, E½ and SW¼, unsurveyed;

Sec. 4, S½, unsurveyed;

Sec. 5, W½ and SE¼, unsurveyed;

Secs. 6 thru 36, unsurveyed.

T. 26 N., R. 17 W.,

Secs. 25 and 26.

T. 6 N., R. 18 W.,

Secs. 13, 24, 25, and 36.

Tps. 7 thru 10 N., R. 18 W., unsurveyed.

T. 11 N., R. 18 W., unsurveyed,

Sec. 1;

Sec. 2, excepting U.S. Survey Nos. 7500 and 8605;

Secs. 3 thru 36.

T. 12 and 13 N., R. 18 W., unsurveyed.

T. 14 N., R. 18 W.,

Secs. 1 and 2, unsurveyed;

Sec. 3, SE¼, unsurveyed;

Sec. 10, E½ and SW¼, unsurveyed;

Secs. 11 thru 15, unsurveyed;

Sec. 16, E½ and SW¼, unsurveyed;

Sec. 17, SE¼, unsurveyed;

Sec. 19, E½ and SW¼, unsurveyed;

Secs. 20 thru 36, unsurveyed.

T. 25 N., R. 18 W.,

Secs. 5 thru 8 and Secs. 17 and 18.

T. 1 N., R. 19 W.,

Secs. 8 and 17, those portions excluded from Tentative Approval F-43814 issued November 14, 1986, as Native Allotment application F-13680;

lot 3, U.S. Survey No. 10474, that portion within protracted sec. 33.

T. 4 N., R. 19 W.,

Secs. 1 thru 4;

Sec. 5, excepting U.S. Survey No. 13990;

Sec. 6, excepting U.S. Survey No. 14232;

Sec. 7, excepting U.S. Survey Nos. 13990 and 14232;

Sec. 8, excepting U.S. Survey No. 13990.

Secs. 9 thru 24.

T. 5 N., R. 19 W.,

tract B.

T. 6 N., R. 19 W.,

Secs. 3 thru 10, Secs. 15 thru 22, and Secs. 27 thru 34.

Tps. 7 thru 13 N., R. 19 W, unsurveyed.

T. 14 N., R. 19 W., unsurveyed,

Sec. 16, S½;

Sec. 20, S½;

Secs. 21 and 22;

Sec. 23, S½;

Sec. 24, S½;

Secs. 25 thru 29;

Sec. 30, SE¼;

Secs. 31 thru 36.

T. 24 N., R. 19 W.,

Secs. 5 and 6.

T. 29 N., R. 19 W.,

Secs. 7, 8, 9, and 16, those portions excluded from Tentative Approval F-15183 issued December 19, 1980.

T. 2 N., R. 20 W.,

Secs. 3, 4, 9, 10, 15, and 16.

Tps. 7 thru 13 N., R. 20 W., unsurveyed.

T. 14 N., R. 20 W., unsurveyed,

Sec. 33, SE¼;

Sec. 34, S½;

Sec. 35, S½;

Sec. 36, S½.

T. 29 N., R. 20 W.,

Secs. 1, 2, 3, and 12, those portions excluded from Tentative Approval F-15183 issued December 19, 1980.

T. 2 N., R. 21 W.,

Secs. 4 thru 8 and Secs. 17 and 18.

T. 3 N., R. 21 W.,

Secs. 2, 3, 6, 7, 11, 18, 19, 30, and 31.

T. 4 N., R. 21 W.,

Sec. 1, that portion excluded from Interim Conveyance Nos. 1038 and 1039 as Native Allotment F-02389.

Tps. 6 thru 13 N., R. 21 W., unsurveyed.

T. 1 N., R. 22 W.,

Secs. 1, 2, and 3, Secs. 10 thru 15, Secs. 22 thru 27, and Secs. 34, 35, and 36.

T. 2 N., R. 22 W.,

Secs. 1 thru 4 and Secs. 9 thru 16.

T. 3 N., R. 22 W.,

Secs. 1 thru 16, Secs. 21 thru 28, and Secs. 33 thru 36.

T. 4 N., R. 22 W.,

Sec. 1, lot 11, that portion excluded from Interim Conveyance Nos. 1038 and 1039 as the lands formerly within Native allotment F-13546 Parcel B;

Sec. 2, that portion excluded from Interim Conveyance Nos. 1038 and 1039 as the lands formerly within Native allotment F-16641;

U.S. Survey No. 1470, that portion excluded from Interim Conveyance Nos. 1038 and 1039 as the lands formerly within Native allotment F-13546 Parcel B;

lot 3, U.S. Survey No. 4104.

T. 5 N., R. 22 W.,

Secs. 1 thru 24 and Secs. 28 thru 33;

Sec. 36, that portion excluded from Interim Conveyance Nos. 1038 and 1039 as lands formerly within Native Allotment F-16246 Parcel A.

T. 7 N., R. 22 W., unsurveyed.

T. 8 N., R. 22 W., unsurveyed,

Secs. 1 and 2;

Sec. 3, excepting U.S. Survey No. 6598;

Secs. 4 thru 36.

Tps. 9 thru 13 N., R. 22 W., unsurveyed.

T. 3 N., R. 23 W.,

Secs. 1 and 2.

T. 5 N., R. 23 W.,

Secs. 31 thru 36.

Tps. 6 and 7 N., R. 23 W., unsurveyed.

T. 8 N., R. 23 W., unsurveyed,

Secs. 1 thru 12;

Secs. 13 and 14, excepting U.S. Survey No. 6494;

Secs. 15 thru 22;

Sec. 23, excepting U.S. Survey Nos. 6494, 6595, 7102, and 7472;

Sec. 24, excepting U.S. Survey Nos. 6494 and 7472;

Sec. 25;

Sec. 26, excepting U.S. Survey No. 6876;

Sec. 27, excepting U.S. Survey No. 6907;

Secs. 28 thru 33;

Sec. 34, excepting U.S. Survey No. 6907;

Secs. 35 and 36.

Tps. 9 thru 13 N., R. 23 W. unsurveyed.

T. 1 N., R. 24 W.,

Secs. 19 thru 36, unsurveyed.

T. 5 N., R. 24 W.,

Secs. 1 and 2, secs. 6 and 7, secs. 11 thru 14, secs. 18 and 19, secs. 23 thru 26, secs. 29 thru 32, and Sec. 36, partly unsurveyed.

T. 6 N., R. 24 W.,

Sec. 1, secs. 4 thru 8, secs. 11 thru 14, secs. 17, 18, and 19, secs. 23 thru 27, and secs. 30, 31, 34, 35, and 36, unsurveyed.

Tps. 7 thru 13 N., R. 24. W., unsurveyed.

T. 14 N., R. 24 W., unsurveyed,

Secs. 19 and 20;

Sec. 27, SW¼;

Sec. 28, S½;

Secs. 29 thru 33;

Sec. 34, W½.

T. 19 N., R. 24 W.,

Secs. 4 and 9, secs. 16 thru 21, and secs. 30 and 31.

T. 21 N., R. 24 W.,

Secs. 19, 20, 21, and secs. 28 thru 33.

T. 1 N., R. 25 W.,

Secs. 19 thru 36, unsurveyed.

Tps. 2 and 3 N., R. 25 W., unsurveyed.

T. 4 N., R. 25 W.,

tract A.

Tps. 8 thru 13 N., R. 25 W., unsurveyed.

T. 14 N., R. 25 W., unsurveyed,

Sec. 2, W½;

Secs. 3 thru 10;

Sec. 11, W½;

Secs. 13 thru 36.

T. 15 N., R. 25 W., unsurveyed,

Secs. 4 thru 9;

Sec. 10, SW¼;

Sec. 15, NW¼;

Secs. 16 thru 21 and secs. 28 thru 33;

Sec. 34, SW¼.

T. 16 N., R. 25 W., unsurveyed,

Sec. 3, W½;

Secs. 4 thru 9;

Sec. 10, W½;

Sec. 15; W½;

Secs. 16, 17, and 18;

Sec. 19, excepting U.S. Survey No. 6234;

Secs. 20, 21, 22, and secs. 27 thru 33;

Sec. 34, NW¼.

T. 17 N., R. 25 W., unsurveyed,

Secs. 6, 7, 18, and 19;

Sec. 20, S½;

Sec. 21, S½;

Sec. 22, S½;

Sec. 23, S½;

Sec. 25, SW¼;

Secs. 26 thru 35;

Sec. 36, W½.

T. 18 N., R. 25 W.,

Secs. 1, 2, and 3, secs. 10 thru 15, secs. 22 thru 27, and secs. 34, 35, and 36.

T. 20 N., R. 25 W.,

Secs. 2 thru 11, secs. 14 thru 22, and secs. 27 thru 33.

T. 25 N., R. 25 W., unsurveyed.

T. 1 N., R. 26 W.,

Secs. 19 thru 36, unsurveyed.

T. 2 N., R. 26 W.,

Secs. 1, 2, and 3, secs. 10 thru 15, secs. 22 thru 27, and secs. 34, 35, and 36, unsurveyed.

T. 4 N., R. 26 W.,

Sec. 7, lots 2 and 3;

Sec. 8;

tract A, that portion described as protracted Sec. 18, excepting U.S. Survey Nos. 11268 and 13865.

Tps. 8 thru 14 N., R. 26 W., unsurveyed.

T. 15 N., R. 26 W., unsurveyed,

Sec. 1;

Sec. 2, excepting U.S. Survey No. 11613;

Secs. 11 thru 14, secs. 23 thru 26, and secs. 35 and 36.

T. 16 N., R. 26 W., unsurveyed.

T. 1 S., R. 1 W.,

Sec. 7, lots 63, 69, 70 and 71;

T. 1 S., R. 2 W.,

Sec. 4, lots 5, 7, and 10, W½NW¼SW¼NW¼, and E½SE¼;

Sec. 5, lots 4, 5, 9, 11, and 13, lot 14, excepting M.S. No. 829, lots 15, 20, and 22, lots 24 thru 29 and E½SE¼;

Sec. 8, lot 7 and lot 8, excepting M.S. No. 1947;

Sec. 9, lot 11;

Sec. 30, N½SW¼NE¼ and S½NE¼SE¼;

M.S. No. 2104;

M.S. No. 2230, that portion excluded from Patent No. 50-66-0014.

T. 11 S., R. 5 W.,

Sec. 9, that portion excluded from Tentative Approval F-44042 issued August 18, 1992.

T. 7 S., R. 6 W.,

Secs. 4 thru 9 and secs. 17, 18, 19, and 30, unsurveyed.

T. 10 S., R. 6 W.,

Sec. 18, that portion excluded from Tentative Approval F-24581 issued January 23, 1992.

T. 5 S., R. 7 W.,

Secs. 18, 19, 30, and 31.

T. 1 S., R. 8 W.,

lot 3, U.S. Survey No. 9969, that portion excluded from Tentative Approval F-026792 issued March 11, 1981, as Regional Selection F-22747.

T. 5 S., R. 8 W.,

Sec. 1, that portion excluding Public Land Order No. 19;

Sec. 10, SW¼;

Secs. 12 and 13;

Sec. 26, lots 1 and 2;

Sec. 35, lots 1 and 2.

T. 6 S., R. 8 W.,

tract A, that portion within (protracted) Sec. 15 excluded from Tentative Approval F-024563 issued May 16, 1961.

T. 5 S., R. 14 W.,

Secs. 21, 22, 27, and 28.

T. 6 S., R. 14 W.

T. 10 S., R. 15 W.

T. 9 S., R. 18 W.

T. 1 S., R. 19 W.,

lot 2, U.S. Survey No. 10474.

Tps. 9 and 10 S., R. 19 W.

T. 6 S., R. 20 W.,

Secs. 19 thru 36.

T. 7 S., R. 20 W.,

Secs. 1 thru 11;

Sec. 12, excepting U.S. Survey No. 12134;

Secs. 13 thru 36.

T. 8 S., R. 20 W.,

Secs. 1 thru 33;

Sec. 34, excepting U.S. Survey No. 12137;

Sec. 35;

Sec. 36, excepting U.S. Survey No. 12136.

T. 9 S., R. 20 W.,

Secs. 1 thru 9;

Sec. 10, excepting lot 2, U.S. Survey No. 12106;

Sec. 11;

Sec. 12, excepting U.S. Survey No. 12105;

Sec. 13;

Secs. 14 and 15, excepting lot 1, U.S. Survey No. 12106;

Secs. 16 thru 21;

Sec. 22, excepting U.S. Survey No. 12120;

Secs. 23 thru 26;

Sec. 27, excepting lots 1 and 2, U.S. Survey No. 12113;

Secs. 28 thru 33;

Sec. 34, excepting U.S. Survey No. 8090 and lots 2 and 3, U.S. Survey No. 12113;

Secs. 35 and 36;

U.S. Survey No. 8090;

lot 1, U.S. Survey No. 12106;

U.S. Survey No. 12120.

T. 10 S., R. 20 W.,

tract A.

T. 6 S., R. 21 W.,

Secs. 19 thru 36.

Tps. 7 thru 9 S., R. 21 W., unsurveyed.

T. 1 S., R. 22 W.

T. 6 S., R. 22 W.,

Secs. 4, 9, 16, and Secs. 20 thru 36.

Tps. 7 thru 9 S., R. 22 W., unsurveyed.

T. 10 S., R. 22 W., unsurveyed,

Secs. 1 and 2, those portions outside the boundary of Denali National Preserve;

Secs. 3 thru 10;

Secs. 11, 12, and 14, those portions outside the boundary of Denali National Preserve;

Secs. 15 thru 21;

Secs. 22 and 27, those portions outside the boundary of Denali National Preserve;

Secs. 28 thru 33;

Sec. 34, that portion outside the boundary of Denali National Preserve.

T. 1 S., R. 23 W.,

Secs. 4 thru 9, Secs. 16 thru 21, and Secs. 28 thru 33.

T. 2 S., R. 23 W.,

Secs. 4 thru 9, Secs. 16 thru 21, and Secs. 28 thru 33.

Tps. 3 and 4 S., R. 23 W., unsurveyed.

T. 5 S., R. 23 W., unsurveyed,

Secs. 2 thru 10, Secs. 16 thru 21, and Secs. 29 thru 33.

T. 6 S., R. 23 W., unsurveyed,

Secs. 4 thru 9, Secs. 16 thru 20, and Secs. 30, 31, 34, 35, and 36.

Tps. 7 thru 10 S., R. 23 W., unsurveyed.

Tps. 1 thru 10 S., R. 24 W., unsurveyed.

Tps. 1 thru 10 S., R. 25 W., unsurveyed.

T. 1 S., R. 26 W., unsurveyed.

T. 2 S., R. 26 W., unsurveyed,

Secs. 1, 2, and 3, Secs. 10 thru 15, Secs. 22 thru 27, and Secs. 34, 35, and 36.

T. 3 S., R. 26 W., unsurveyed,

Secs. 1, 2, and 3, Secs. 10 thru 15, Secs. 22 thru 27, and Secs. 34, 35, and 36.

T. 4 S., R. 26 W., unsurveyed,

Secs. 1, 2, and 3, Secs. 10 thru 15, Secs. 22 thru 27, and Secs. 34, 35, and 36.

T. 5 S., R. 26 W., unsurveyed,

Secs. 1 thru 5 and Secs. 7 thru 36.

Tps. 6 thru 10 S., R. 26 W., unsurveyed.

T. 5 S., R. 27 W., unsurveyed,

secs, 34, 35, and 36.

T. 6 S., R. 27 W., unsurveyed,

Secs. 1, 2, and 3, and Secs. 9 thru 16;

Sec. 17, S½;

Sec. 19, S½;

Secs. 20 thru 36.

Tps. 7 thru 10 S., R. 27 W., unsurveyed.

Tps. 9 and 10 S., R. 28 W., unsurveyed.

T. 2 S., R. 2 E.,

Sec. 5, lot 18.

T. 4 S., R. 3 E.,

Sec. 1, lot 69.

T. 6 S., R. 4 E.,

Sec. 2, lots 42, 43, and lots 49 thru 52;

Sec. 10, lot 10.

T. 9 S., R. 10 E.,

Sec. 33, lot 1.

Kateel River Meridian, Alaska

T. 9 N., R. 4 E., unsurveyed,

Secs. 1, 2, and 3, those portions lying outside the boundary of Koyukuk National Wildlife Refuge.

T. 10 N., R. 4 E., unsurveyed,

Sec. 21, Secs. 27 thru 31, and Sec. 34, those portions lying outside the boundary of Koyukuk National Wildlife Refuge.

T. 9 N., R. 5 E., unsurveyed,

Sec. 6, that portion lying outside the boundary of Koyukuk National Wildlife Refuge.

T. 10 N., R. 5 E., unsurveyed,

Secs. 1, 2, 11, 14, 21, 22, 23, 28, 29, 31, and 32, those portions lying outside the boundary of Koyukuk National Wildlife Refuge.

T. 10 N., R. 6 E., unsurveyed.

T. 11 N., R. 6 E., unsurveyed,

Secs. 1 thru 7;

Sec. 8, excepting U.S. Survey No. 12316;

Secs. 9 thru 36.

T. 12 N., R. 6 E., unsurveyed.

Secs. 25 thru 36.

Tps. 9, 10, and 11 N., R. 7 E., unsurveyed.

T. 12 N., R. 7 E., unsurveyed,

Secs. 25 thru 36.

Tps. 9, 10, and 11 N., R. 8 E., unsurveyed.

T. 12 N., R. 8 E., unsurveyed,

Secs. 25 thru 36.

Tps. 9 and 10 N., Rs. 9 and 10 E., unsurveyed.

Tps. 9, 10, and 11 N., R. 11 E., unsurveyed.

T. 12 N., R. 11 E., unsurveyed,

Secs. 1, 12, and 13, Secs. 24 thru 27, and Secs. 34, 35, and 36.

Tps. 9 thru 12 N., R. 12 E., unsurveyed.

T. 33 N., R. 12 E., unsurveyed,

Secs. 1, 12, 13, 24, 25, and 36.

T. 34 N., R. 12 E., unsurveyed,

Secs. 12, 13, 24, 25, and 36.

T. 9 N., R. 13 E., unsurveyed,

Secs. 6, 7, 18, and 19;

Secs. 20, 21, 22, and 29, those portions lying outside the boundary of Koyukuk National Wildlife Refuge;

Sec. 30;

Secs. 31 and 32, those portions lying outside the boundary of Koyukuk National Wildlife Refuge.

T. 10 N., R. 13 E., unsurveyed,

Secs. 6, 7, 18, 19, 30, and 31.

T. 11 N., R. 13 E., unsurveyed,

Secs. 1 thru 24 and Secs. 30 and 31.

T. 30 N., R. 13 E., unsurveyed,

Secs. 1 and 2, those portions lying outside the boundary of Gates of the Arctic National Park;

Sec. 3, that portion lying outside the boundary of Gates of the Arctic National Park and Noatak National Preserve;

Secs. 11 and 12, those portions lying outside the boundary of Gates of the Arctic National Park.

T. 31 N., R. 13 E., unsurveyed,

Secs. 1, 2, and 3;

Secs. 6, that portion lying outside the boundary of the National Petroleum Reserve and Noatak National Preserve;

Sec. 7, that portion lying outside the boundary of the National Petroleum Reserve;

Sec. 12;

Sec. 17, SW¼;

Sec. 18 that portion lying outside the boundary of the National Petroleum Reserve;

Sec. 19, that portion lying outside the boundary of Noatak National Preserve and the National Petroleum Reserve;

Sec. 20, that portion lying outside the boundary of Noatak National Preserve;

Secs. 21, 22, and 26;

Secs. 27, 28, 29, and 34, those portions lying outside the boundary of Noatak National Preserve;

Secs. 35 and 36.

T. 32 N., R. 13 E., unsurveyed,

Secs. 1 thru 5;

Secs. 6 and 7, those portions lying outside the boundary of the National Petroleum Reserve;

Secs. 8 thru 17;

Secs. 18 and 19, those portions lying outside the boundary of the National Petroleum Reserve;

Secs. 20 thru 29;

Sec. 30, that portion lying outside the boundary of the National Petroleum Reserve;

Sec. 32, that portion lying outside the boundary of Noatak National Preserve;

Secs. 33 thru 36.

Tps. 33 and 34 N., R. 13 E., unsurveyed.

T. 9 N., R. 14 E., unsurveyed,

Secs. 1 thru 4 and Secs. 10 thru 13, those portions excluded from Interim Conveyance No. 2273.

T. 30 N., R. 14 E., unsurveyed,

Secs. 2, 3, 6, 7, and 8, Secs. 14 thru 21, those portions lying outside the boundary of Gates of the Arctic National Park;

Sec. 22;

Sec. 23 and Secs. 26 thru 30, those portions lying outside the boundary of Gates of the Arctic National Park.

T. 31 N., R. 14 E., unsurveyed,

Sec. 2, W½NW¼ and W½SW¼;

Secs. 3 thru 10;

Sec. 11, W½NW¼ and W½SW¼;

Sec. 14, W½NW¼ and W½SW¼;

Secs. 15 thru 18 and Secs. 21 and 22;

Sec. 23, W½NW¼ and W½SW¼;

Sec. 26, W½NW¼ and W½SW¼;

Secs. 27, 28, 33, and 34;

Sec. 35, W½NW¼ and W½SW¼.

T. 32 N., R. 14 E., unsurveyed,

Sec. 2, W½NW¼ and W½SW¼;

Secs. 3 thru 10;

Sec. 11, W½NW¼ and W½SW¼;

Sec. 14, W½NW¼ and W½SW¼;

Secs. 15 thru 22;

Sec. 23, W½NW¼ and W½SW¼;

Sec. 26, W½NW¼ and W½SW¼;

Secs. 27 thru 34;

Sec. 35, W½NW¼ and W½SW¼.

T. 33 N., R. 14 E., unsurveyed,

Secs. 4 thru 9, Secs. 16 thru 21, and Secs. 28 thru 33.

T. 34 N., R. 14 E., unsurveyed,

Secs. 7, 8, and 9, Secs. 16 thru 21, and Secs. 28 thru 33.

T. 7 N., R. 15 E.,

Secs. 1 thru 4 and Secs. 10 thru 15, unsurveyed.

T. 8 N., R. 15 E., unsurveyed,

Secs. 13 and 14, Secs. 22 thru 30, and Secs. 32 thru 36.

T. 9 N., R. 15 E., unsurveyed,

Sec. 7, that portion excluded from Tentative Approvals F-88709 issued January 22, 1997, and March 23, 2009;

M.S. No. 2149.

T. 10 N., R. 15 E., unsurveyed,

Secs. 1, 2, and 3 and Secs. 10 thru 15.

T. 7 N., R. 16 E., unsurveyed,

Secs. 2 thru 9 and Secs. 17 and 18.

T. 8 N., R. 16 E., unsurveyed,

Sec. 1, excepting U.S. Survey No. 11473;

Secs. 2 thru 6 and Secs. 9, 10, and 11;

Sec. 12, excepting U.S. Survey No. 11473;

Secs. 13, 14, 15, 18, 19, 20, 23, 24, and 25, and Secs. 28 thru 34.

T. 9 N., R. 16 E., unsurveyed,

Secs. 1 thru 34;

Secs. 35 and 36, excepting U.S. Survey No. 13976.

T. 10 N., R. 16 E., unsurveyed,

Secs. 1 thru 15;

Sec. 16, excepting U.S. Survey No. 6381;

Secs. 17 thru 36.

T. 11 N., R. 16 E., unsurveyed,

Secs. 1 thru 20;

Sec. 21, excepting U.S. Survey No. 6156;

Secs. 22 thru 36.

Tps. 12 and 13 N., R. 16 E., unsurveyed.

T. 7 N., R. 17 E., unsurveyed,

Secs. 1 thru 5 and Secs. 8 thru 17.

Tps. 8 thru 13 N., R. 17 E., unsurveyed.

T. 1 N., 18 E., unsurveyed,

Secs. 1, 11, and 12, those portions lying outside the boundary of Koyukuk National Wildlife Refuge;

Sec. 13;

Secs. 14, 15, 21, and 22, those portions lying outside the boundary of Koyukuk National Wildlife Refuge;

Secs. 23 thru 27;

Secs. 28, 29, 32, and 33, those portions lying outside the boundary of Koyukuk National Wildlife Refuge;

Secs. 34, 35, and 36.

T.7 N., R. 18 E., unsurveyed,

Secs. 1 thru 24.

Tps. 8 thru 13 N., R. 18 E., unsurveyed.

T. 1 N., R. 19 E., unsurveyed,

Secs. 1 thru 5;

Sec. 6, that portion lying outside the boundary of Koyukuk National Wildlife Refuge.

Secs. 7 thru 36.

T. 2 N., R. 19 E., unsurveyed,

Secs. 25, 26, 31, and 32, those portions lying outside the boundary of Koyukuk National Wildlife Refuge.

Sec. 33, S½;

Sec. 34, S½;

Sec. 35, that portion lying outside the boundary of Koyukuk National Wildlife Refuge;

Sec. 36.

T. 7 N., R. 19 E., unsurveyed,

Secs. 1 thru 25;

Secs. 26 and 35, those portions lying outside the boundary of Koyukuk National Wildlife Refuge;

Sec. 36.

Tps. 8 thru 13 N., R. 19 E., unsurveyed.

T. 1 N., R. 20 E., unsurveyed,

Secs. 1 and 2;

Sec. 3, that portion lying outside the boundary of Koyukuk National Wildlife Refuge;

Secs. 4 thru 36.

T. 2 N., R. 20 E., unsurveyed,

Secs. 24, 25, 26, 29, and 30, those portions lying outside the boundary of Koyukuk National Wildlife Refuge;

Sec. 31;

Secs. 32 thru 35, those portions lying outside the boundary of Koyukuk National Wildlife Refuge;

Sec. 36.

T. 7 N., R. 20 E.

T. 9 N., R. 20 E.

T. 11 N., R. 20 E., unsurveyed,

Secs. 1 thru 28;

Sec. 29, excepting U.S. Survey No. 13006;

Secs. 30 thru 36.

Tps. 12 and 13 N., R. 20 E., unsurveyed.

T. 2 N., R. 21 E., unsurveyed,

Secs. 19, 23, and 24, those portions lying outside the boundary of Koyukuk National Wildlife Refuge;

Sec. 25;

Secs. 26 thru 30, those portions lying outside the boundary of Koyukuk National Wildlife Refuge;

Secs. 31 and 32;

Secs. 33 and 34, those portions lying outside the boundary of Koyukuk National Wildlife Refuge;

Secs. 35 and 36.

T. 6 N., R. 21 E.,

Secs. 5, 6, 7, 18, and 36.

T. 8 N., R. 21 E.,

Secs. 5 thru 11 and Secs. 13 thru 36.

Tps. 10 thru 13 N., R. 21 E., partly unsurveyed.

T. 2 N., R. 22 E., unsurveyed,

Sec. 1;

Secs. 2, 3, 9 and 10, those portions lying outside the boundary of Koyukuk National Wildlife Refuge;

Secs. 11 thru 15;

Secs. 16 thru 19, those portions lying outside the boundary of Koyukuk National Wildlife Refuge;

Secs. 20 thru 36.

T. 3 N., R. 22 E., unsurveyed,

Secs. 25, 35, and 36, those portions lying outside the boundary of Koyukuk National Wildlife Refuge.

T. 7 N., R. 22 E.,

Secs. 1 and 2, Secs. 12 thru 15, Secs. 22 thru 27, and Secs. 32 thru 36.

T. 9 N., R. 22 E.,

Secs. 3 thru 9, Sec. 13, Secs. 16 thru 20, Secs. 23 thru 26, Secs. 29 thru 32, and Secs. 35 and 36.

Tps. 11, 12, and 13 N., R. 22 E., unsurveyed.

T. 2 N., R. 23 E.,

Secs. 1 thru 18, unsurveyed;

tract B.

T. 3 N., R. 23 E., unsurveyed,

Secs. 1, 10, 11 and 12, those portions lying outside the boundary of Koyukuk National Wildlife Refuge;

Secs. 13, 14, and 15;

Secs. 16, 17, 19, and 20, those portions lying outside the boundary of Koyukuk National Wildlife Refuge;

Secs. 21 thru 29;

Sec. 30, that portion lying outside the boundary of Koyukuk National Wildlife Refuge;

Secs. 31 thru 36.

Tps. 6 and 8 N., R. 23 E.

T. 10 N., R. 23 E.,

Secs. 2 thru 8, Secs. 13, 14, and 15, Secs. 21 thru 28, and Secs. 33 thru 36.

T. 11 N., R. 23 E., unsurveyed,

Secs. 1 thru 35;

Sec. 36, excepting U.S. Survey No. 6720.

Tps. 12 and 13 N., R. 23 E., unsurveyed.

T. 2 N., R. 24 E.,

tracts B, C, F, and H.

T. 3 N., R. 24 E., unsurveyed,

Sec. 1 thru 5;

Sec. 6, that portion lying outside the boundary of Koyukuk National Wildlife Refuge;

Secs. 7 thru 36.

T. 4 N., R. 24 E., unsurveyed,

Sec. 1;

Secs. 2 and 11, those portions lying outside the boundary of Koyukuk National Wildlife Refuge;

Secs. 12 and 13;

Secs. 14, 15, and 22, those portions lying outside the boundary of Koyukuk National Wildlife Refuge;

Secs. 23 thru 26;

Secs. 27, 28, 29, 31, and 32, those portions lying outside the boundary of Koyukuk National Wildlife Refuge;

Secs. 33 thru 36.

T. 5 N., R. 24 E., unsurveyed,

Secs. 1 thru 4;

Sec. 9, NE¼;

Sec. 10 thru 15, Secs. 22 thru 27, and Secs. 34, 35, and 36.

T. 7 N., R. 24 E.,

Secs. 1 thru 12;

Sec. 13, excepting Public Land Order Nos. 3942 and 6706;

Secs. 14, 15, and 16, excepting Public Land Order No. 6706;

Secs. 17 thru 20;

Sec. 21, excepting Public Land Order No. 6706;

Sec. 22, excepting Public Land Order Nos. 5164 and 6706;

Sec. 24, excepting Public Land Order Nos. 1910, 3942, 5164, and 6706;

Sec. 25, excepting Public Land Order Nos. 5164 and 6706;

Sec. 27, excepting Public Land Order No. 6706;

Secs. 28 thru 33;

Sec. 34, excepting Public Land Order Nos. 5164 and 6706;

Secs. 35 and 36, excepting Public Land Order No. 6706.

T. 9 N., R. 24 E., unsurveyed.

T. 10 N., R. 24 E.,

Secs. 1 thru 36, partly unsurveyed;

lot 1, U.S. Survey No. 14355.

T. 11 N., R. 24 E., partly unsurveyed,

Sec. 1 thru 36;

lots 2 and 3, U.S. Survey No. 14355.

T. 12 N., R. 24 E., unsurveyed.

T. 13 N., R. 24 E., unsurveyed,

Secs. 1 thru 12;

Sec. 13, excepting lot 1, U.S. Survey No. 14357;

Sec. 14, excepting lots 1 and 2, U.S. Survey No. 14357;

Secs. 15 thru 36;

lots 1 and 2, U.S. Survey No. 14357.

T. 2 N., R. 25 E.,

tract A.

T. 3 N., R. 25 E.,

Secs. 1 thru 18, unsurveyed;

tract B.

Tps. 4, 5, and 6 N., R. 25 E., unsurveyed.

T. 7 N., R. 25 E., unsurveyed,

Secs. 1, 2, 6, 7, and 8;

Sec. 9, excepting U.S. Survey No. 9349;

Secs. 11 thru 14, Sec. 16, and Secs. 22 thru 27;

Sec. 28, excepting lots 1 and 2, U. S. Survey No. 9347;

Sec. 29, excepting lots 2, 3, and 4, U.S. Survey No. 9347;

Sec. 31, excepting lots 5 and 6, U.S. Survey 9347;

Sec. 32, excepting lot 5, U.S. Survey No. 9347;

Secs. 33 thru 36.

T. 8 N., R. 25 E.,

Secs. 1 thru 4, Secs. 9 thru 15, Secs. 22 thru 27, and Secs. 35 and 36, partly unsurveyed;

tracts B and C.

Tps. 9 and 10 N., R. 25 E., unsurveyed.

T. 11 N., R. 25 E., unsurveyed,

Secs. 1 and 2, excepting U.S. Survey No. 11623;

Secs. 3 thru 8;

Sec. 9, excepting U.S. Survey No. 11621;

Sec. 10;

Secs. 11 and 12, excepting U.S. Survey No. 11623;

Secs. 13 thru 36.

T. 12 N., R. 25 E., partly unsurveyed.

T. 15 N., R. 25 E.,

tract C, that portion excluded from Tentative Approval F-F-23452 issued April 7, 1982, as Regional selection F-22490.

T. 16 N., R. 25 E.,

tract B, and tracts E thru J.

T. 17 N., R. 25 E., unsurveyed.

T. 2 N., R. 26 E.,

tract A.

T. 3 N., R. 26 E.,

Secs. 1 thru 18, unsurveyed.

Tps. 4 thru 10, R. 26 E., unsurveyed.

T. 11 N., R. 26 E., partly unsurveyed.

T. 12 N., R. 26 E., unsurveyed,

Secs. 1 thru 12;

Sec. 13, excepting lot 6, U.S. Survey No. 11626 and U.S. Survey No. 14356;

Sec. 14, excepting lots 3, 4, and 5, U.S. Survey No. 11626;

Sec. 15, excepting lot 2, U.S. Survey No. 11626;

Secs. 16 thru 21;

Sec. 22, excepting lots 1 and 2, U.S. Survey No. 11626 and U.S Survey No. 14165;

Sec. 23, excepting lot 4, U.S. Survey No. 11626;

Secs. 24 and 25;

Secs. 26 and 27, excepting lot 1, U.S. Survey No. 11626;

Secs. 28 thru 31;

Sec. 32, excepting U.S. Survey No. 11622;

Secs. 33 thru 36;

U.S. Survey No. 14356.

T. 2 N., R. 27 E., unsurveyed.

T. 3 N., R. 27 E.,

tract A.

Tps. 4 thru 8 N., R. 27 E., unsurveyed.

T. 9 N., R. 27 E., unsurveyed,

Secs. 1 thru 8;

Secs. 9 and 10, excepting U.S. Survey No. 11618;

Secs. 11 thru 24;

Sec. 25, excepting U.S. Survey No. 11613;

Sec. 26;

Secs. 27 and 28, excepting U.S. Survey No. 11617;

Secs. 29 thru 36.

T. 10 N., R. 27 E., unsurveyed.

T. 11 N., R. 27 E., unsurveyed,

Secs. 1 thru 22;

Sec. 23, excepting lot 1, U.S. Survey No. 11634;

Secs. 24 and 25, excepting lot 2, U.S. Survey No. 11634;

Sec. 26, excepting lots 1 and 2, U.S. Survey No. 11634;

Secs. 27 thru 36.

T. 12 N., R. 27 E.,

Secs. 5 thru 8, Secs. 22 and 23, and Secs. 26 thru 35.

T. 15 N., R. 27 E.,

tract A, that portion excluded from Tentative Approval F-79790 issued August 14, 1984, as Regional selection F-22455.

T. 2 N., R. 28 E., unsurveyed.

T. 3 N., R. 28 E.,

tract A, those portions described as (protracted) Secs. 27, 33, and 34;

tracts B and D.

Tps. 4 thru 8 N., R. 28 E., unsurveyed.

T. 12 S., R. 1 W.,

Secs. 1 and 2, Secs. 11 thru 14, Secs. 18, 19, 20, 23, 24, and 25, Secs. 29 thru 32, and Sec. 36.

T. 14 S., R. 1 W.,

Secs. 6 and 7;

Sec. 8, lot 3.

T. 17 S., R. 1 W.,

Secs. 1 thru 9 and Secs. 16, 17, and 18.

T. 17 S., R. 2 W.,

Secs. 22 thru 27 and Secs. 34, 35, and 36.

T. 12 S., R. 1 E.,

Secs. 1 thru 23 and Secs. 27 thru 33.

T. 14 S., R. 1 E.,

Secs. 1 and 2, Secs. 11 thru 14, and Secs. 23, 24, 25, and 36.

T. 9 S., R. 2 E.,

Secs. 25 and 26, and Secs. 33 thru 36.

T. 15 S., R. 2 E.,

T. 17 S., R. 2 E.,

Secs. 19 thru 24, those portions lying outside the boundary of Innoko National Wildlife Refuge;

T. 8 S., R. 3 E.,

Secs. 16 thru 21 and Secs. 28 thru 33.

T. 14 S., R. 3 E.

T. 7 S., R. 4 E.,

Secs. 1 thru 35.

T. 9 S., R. 4 E.,

Lot 1, U.S. Survey No. 7384.

T. 6 S., R. 5 E.

T. 13 S., R. 6 E., unsurveyed,

Secs. 13, 22, and 23, those portions lying outside the boundary of Innoko National Wildlife Refuge;

Secs. 24 thru 28 and Secs. 32 thru 36.

T. 6 S., R. 7 E.,

Secs. 9 thru 16, secs 21 thru 28, and Secs. 33 thru 36.

T. 8 S., R. 7 E.,

Sec. 1, lot 1;

Sec. 2, lot 1.

T. 12 S., R. 7 E., unsurveyed,

Secs. 13, 14, 15 and 21, those portions lying outside the boundary of Innoko National Wildlife Refuge;

Secs. 22 thru 28;

Sec. 31, that portion lying outside the boundary of Innoko National Wildlife Refuge;

Secs. 32 thru 36.

T. 13 S., R. 7 E., unsurveyed.

T. 11 S., R. 8 E., unsurveyed,

Sec. 23, that portion lying outside the boundary of Innoko National Wildlife Refuge;

Secs. 24 and 25;

Secs. 26 and 35, those portions lying outside the boundary of Innoko National Wildlife Refuge;

Sec. 36.

T. 12 S., R. 8 E., unsurveyed,

Secs. 1, 2, and 3 and Secs. 9 thru 16;

Secs. 17 and 18, those portions lying outside the boundary of Innoko National Wildlife Refuge;

Secs. 19 thru 36.

T. 13 S., R. 8 E., unsurveyed.

T. 10 S., R. 9 E.,

Sec. 1, Secs. 11 thru 14, Secs. 23 thru 26, and Secs. 35 and 36.

Tps. 12 and 13 S., R. 9 E., unsurveyed.

T. 11 S., R. 10 E.

T. 12 S., R. 10 E., unsurveyed,

Secs. 1, 2, and 3;

Sec. 4, excepting U.S. Survey No. 9606;

Secs. 5 thru 21;

Sec. 22, excepting Public Land Order No. 1740;

Secs. 23, 24, and 25;

Secs. 26 and 27, excepting Public Land Order No. 1740;

Secs. 28 thru 34;

Sec. 35, excepting Public Land Order No. 1740;

Sec. 36.

T. 13 S., R. 10 E., unsurveyed.

T. 6 S., R. 11 E., unsurveyed.

T. 8 S., R. 11 E.,

Secs. 1 thru 6 and Secs. 9 thru 12.

T. 10 S., R. 11 E.,

Secs. 22 thru 27, and Secs. 34, 35, and 36.

Tps. 6, 7, and 8 S., Rs. 12 and 13 E., partly unsurveyed.

T. 3 S., R. 14 E., unsurveyed,

Secs. 1, 2, 10, and 11, those portions lying outside the boundary of Koyukuk National Wildlife Refuge;

Secs. 12 thru 15, Secs. 22 thru 27, and Secs. 34, 35, and 36.

T. 4 S., R. 14 E., unsurveyed,

Secs. 1, 2 and 3, Secs. 10 thru 15, Secs. 22 thru 27, and Secs. 34, 35, and 36.

Tps. 5 thru 8 S., R. 14 E., unsurveyed.

T. 2 S., R. 15 E., unsurveyed,

Secs. 25 thru 28, and Secs. 32 and 33, those portions lying outside the boundary of Koyukuk National Wildlife Refuge;

Secs. 34, 35, and 36.

T. 3 S., R. 15 E., unsurveyed,

Secs. 1 thru 4;

Secs. 5 and 6, those portions lying outside the boundary of Koyukuk National Wildlife Refuge;

Secs. 7 thru 36.

Tps. 4, 5, and 6 S., R. 15 E., unsurveyed.

T. 2 S., R. 16 E., unsurveyed,

Secs. 22, 23, and 24, those portions lying outside the boundary of Koyukuk National Wildlife Refuge;

Secs. 25 and 26;

Secs. 27, 28, 30, 31, 32, and 33, those portions lying outside the boundary of Koyukuk National Wildlife Refuge;

Secs. 34, 35, and 36.

Tps. 3 thru 6 S., R. 16 E., unsurveyed.

T. 1 S., 17 E., unsurveyed,

Secs. 13, 24, 25, and 36, those portions lying outside the boundary of Koyukuk National Wildlife Refuge.

T. 2 S., R. 17 E., unsurveyed,

Sec. 1;

Secs. 2, 3, 9, and 10, those portions lying outside the boundary of Koyukuk National Wildlife Refuge;

Secs. 11 thru 15;

Secs. 16, 17, 19, and 20, those portions lying outside the boundary of Koyukuk National Wildlife Refuge;

Secs. 21 thru 36.

Tps. 3, 4, and 5 S., R. 17 E., unsurveyed.

T. 6 S., R. 17 E.,

tract A.

T. 10 S., R. 17 E.,

Secs. 1, 2, 7, 8, 12, and 13, Secs. 17 thru 20, Secs. 24 and 25, Secs. 29 thru 32, and Sec. 36.

T. 12 S., R. 17 E., unsurveyed,

Secs. 28, 29, 31, 32, and 33, those portions excluded as mining claims from Tentative Approval F-15084 issued May 21, 1982.

T. 13 S., R. 17 E., unsurveyed,

Secs. 3, 4, 5, 8, 9, and 17, those portions excluded as mining claims from Tentative Approval F-15090 issued April 24, 1981.

T. 14 S., R. 17 E., unsurveyed,

Secs. 4, 5, and 8, those portions excluded as mining claims from Tentative Approval F-15090 issued April 24, 1981.

T. 16 S., R. 17 E.,

Tract A, those portions excluded as mining claims from Tentative Approvals F-15090 issued March 31, 1983, and December 12, 2007, excluding M.S. Nos. 1647, 1648, and 2520;

M.S. Nos. 1647, 1648, and 2520.

T. 1 S., R. 18 E., unsurveyed,

Secs. 1, 2, and 3;

Secs. 4 thru 8, those portions lying outside the boundary of Koyukuk National Wildlife Refuge;

Secs. 9 thru 17;

Sec. 18, that portion lying outside the boundary of Koyukuk National Wildlife Refuge;

Secs. 19 thru 36.

Tps. 2 and 3 S., R. 18 E., unsurveyed.

T. 4 S., R. 18 E.,

tract A, tracts E thru H, and tracts J, K, and L.

T. 5 S., R. 18 E.,

tracts A, D, and F.

T. 6 S., R. 18 E.,

tract A.

T. 13 S., R. 18 E., unsurveyed,

Secs. 3, 9, 10, and 16, those portions excluded as mining claims from Tentative Approval F-15090 issued April 24, 1981.

Tps. 1, 2, and 3 S., R. 19 E., unsurveyed.

T. 4 S., R. 19 E.,

Tracts B thru E, tracts G and J, and tracts M thru W.

T. 5 S., R. 19 E.,

Tract A.

T. 6 S., R. 19 E.,

Secs. 5 thru 8, secs. 17 thru 20, and secs. 29 and 30, unsurveyed.

Tps. 15 and 16 S., R. 19 E., unsurveyed.

T. 4 S., R. 20 E.,

tract A, that portion within (protracted) Secs. 23 and 24, excluded from Tentative Approval F-15207 issued June 16, 1976, as F-035073.

T. 6 S., R. 20 E.,

Sec. 19 and Secs. 27 thru 30;

tract A;

lot 3, U.S. Survey No. 9591.

Tps. 15 and 16 S., R. 20 E., unsurveyed.

T. 5 S., R. 21 E.

T. 6 S., R. 21 E.,

U.S. Survey Nos. 2033 and 14353.

T. 5 S., R. 22 E.,

tract A.

T. 6 S., R. 22 E.,

U.S. Survey No. 14352.

Tps. 13, 14, and 15 S., R. 22 E., unsurveyed.

T. 16 S., R. 22 E., unsurveyed,

Secs. 1 thru 24 and Secs. 26 thru 34.

T. 17 S., R. 22 E., unsurveyed,

Secs. 5 and 6.

T. 18 S., R. 22 E., unsurveyed,

Secs. 1, 2, and 3, Secs. 9 thru 16, and Secs. 19 thru 36.

Tps. 19, 20, and 21 S., R. 22 E., unsurveyed.

T. 22 S., R. 22 E., unsurveyed,

Secs. 1 thru 10.

T. 6 S., R. 23 E.,

U.S. Survey No. 14351.

T. 13 S., R. 23 E., unsurveyed,

Secs. 7 and 8, Secs. 16 thru 21, and Secs. 28 thru 33.

T. 14 S., R. 23 E., unsurveyed,

Secs. 3 thru 10 and Secs. 15 thru 36.

T. 15 S., R. 23 E., unsurveyed.

T. 16 S., R. 23 E., unsurveyed,

Secs. 1 thru 11 and Secs. 16 thru 19.

T. 17 S., R. 23 E., unsurveyed,

Sec. 13 and Secs. 23 thru 36.

Tps. 18 thru 22 S., R. 23 E., partially unsurveyed.

T. 14 S., R. 24 E., unsurveyed,

Secs. 19 thru 36.

T. 15 S., R. 24 E., unsurveyed,

Secs. 1 thru 23 and Secs. 27 thru 33.

T. 16 S., R. 24 E., unsurveyed,

Secs. 24 thru 27, and Secs. 33 thru 36.

T. 17 S., R. 24 E. unsurveyed,

Secs. 1 thru 4 and Secs. 7 thru 36.

Tps. 18, 19, and 20 S., R. 24 E., unsurveyed.

Tps. 21 and 22 S., R. 24 E., partially unsurveyed.

T. 14 S., R. 25 E., unsurveyed,

Sec. 36.

T. 15 S., R. 25 E., unsurveyed,

Secs. 1, 12, and 13, Secs. 23 thru 27, and Secs. 34, 35, and 36.

T. 16 S., R. 25 E., unsurveyed,

Secs. 1 thru 4, Secs. 8 thru 17, and Secs. 19 thru 36.

Tps. 17 thru 22 S., R. 25 E., unsurveyed.

T. 13 S., R. 26 E., unsurveyed,

Secs. 25 and 36.

T. 14 S., R. 26 E., unsurveyed,

Secs. 1, 2, and 3 and Secs. 9 thru 36.

Tps. 15 thru 21 S., R. 26 E., unsurveyed.

T. 12 S., R. 27 E., unsurveyed,

Secs. 31 thru 36.

T. 13 S., R. 27 E., unsurveyed,

Secs. 1 thru 4, Secs. 9 thru 16, and Secs. 19 thru 36.

Tps. 14 thru 19 S., R. 27 E., unsurveyed.

T. 3 S., R. 28 E.,

Tract B, that portion within (protracted) Secs. 4, 5, 8, 9, 16, 17, 20, 21, and 28.

T. 13 S., R. 28 E., unsurveyed,

Secs. 4 thru 36.

Tps. 14 thru 19 S., R. 28 E., unsurveyed.

T. 13 S., R. 29 E., unsurveyed,

Secs. 7 thru 36.

Tps. 14 thru 17 S., R. 29 E., unsurveyed.

T. 18 S., R. 29 E., unsurveyed,

Secs. 1 thru 21, and Secs. 28 thru 33.

T. 19 S., R. 29 E., unsurveyed.

T. 13 S., R. 30 E., unsurveyed,

Secs. 7, 18, 19, 30, and 31.

Tps. 14, 15 and 16 S., R. 30 E., unsurveyed.

T. 17 S., R. 30 E., unsurveyed,

Secs. 4 thru 9 and Secs. 16 thru 18.

Umiat Meridian, Alaska

T. 2 N., R. 2 E.,

Sec. 36, lot 1.

T. 4 N., R. 2 E.,

Sec. 13, lots 1 and 2;

Sec. 24, lots 1 and 2.

T. 2 N., R. 3 E.,

Sec. 4;

Sec. 5, lot 1;

Sec. 8, lots 1 thru 3;

Secs. 9 and 16;

Sec. 17, lots 1 thru 4, surveyed;

Sec. 31, lot 3.

T. 3 N., R. 3 E.,

Sec. 4, lots 1 and 2;

Sec. 5, lots 1 thru 4;

Sec. 6, lot 1;

Sec. 8, lots 1 thru 6;

Sec. 9, lots 1 and 2;

Sec. 16, lot 1;

Sec. 17, lots 1 thru 4;

Sec. 20, lots 1 and 2;

Sec. 21, lots 1 and 2;

Sec. 28, lots 1 and 2;

Sec. 29, lots 1 and 2;

Sec. 32, lots 1 thru 3;

Sec. 33.

T. 4 N., R. 3 E.,

Sec. 6, lots 1 thru 4;

Sec. 7, lots 1 thru 5;

Sec. 18, lots 1 thru 4;

Sec. 19, lots 1 thru 4;

Sec. 20, lots 1 thru 3;

Sec. 29, lots 1 thru 3;

Sec. 30, lots 1 thru 3;

Sec. 31, lots 1 thru 3;

Sec. 32, lots 1 thru 4;

Sec. 33, lots 1 and 2.

T. 1 N., R. 19 E.,

Secs. 12 thru 14 and Secs. 23 thru 26.

T. 1 N., R. 20 E.,

Secs. 7 thru 22.

T. 1 S., R. 1 W.,

Sec. 10, lot 2;

Sec. 15, lot 2.

T. 9 S., R. 1 W.,

Secs. 7, 8, and 9, and Secs. 13 thru 27.

T. 10 S., R. 1 W.,

T. 9 S., R. 2 W.,

Secs. 1, 2, and 3, and Secs. 10 thru 15.

T. 10 S., R. 2 W.,

T. 8 S., R. 3 W.,

Secs. 28 thru 33.

T. 9 S., R. 3 W.,

Secs. 4, 5, and 6.

T. 8 S., R. 4 W.,

Secs. 16 thru 36.

T. 8 S., R. 5 W.,

Secs. 7, 8, and 9, Secs. 16 thru 21, and Secs. 25 thru 30.

T. 7 S., R. 6 W.,

Secs. 1, 12, and 13, Secs. 24 thru 28, and Secs. 33 thru 36.

T. 8 S., R. 6 W.,

Secs. 10 thru 15.

T. 7 S., R. 8 W.,

Secs. 1 thru 18.

T. 10 S., R. 9 W.,

Secs. 1 thru 18.

T. 10 S., R. 10 W.,

Secs. 1 thru 18.

T. 8 S., R. 12 W.,

Secs. 7, 8, and 9, and Secs. 16 thru 21.

T. 6 S., R. 13 W.,

Secs. 25 and 36.

T. 7 S., R. 13 W.,

Secs. 1 thru 28, and Secs. 33 thru 36.

T. 8 S., R. 13 W.,

Secs. 1 thru 4, Secs. 9 thru 16, and Secs. 21 thru 24.

T. 5 S., R. 15 W.,

Sec. 3, lot 1;

Sec. 4, lot 1;

Sec. 5, lot 1;

Sec. 6, lot 1;

Sec. 7, lots 1 and 2;

Sec. 9, lot 1;

Sec. 10, lot 1;

Sec. 16, lots 1 and 2;

Sec. 17, lot 1;

Sec. 18, lots 1, 2, and 3;

Sec. 19, lots 1 and 2;

Sec. 21, lots 1 and 2;

Sec. 28, lots 1, 2, and 3;

Sec. 29, lots 1 and 2;

Sec. 30 lots 1 and 2.

T. 5 S., R. 16 W.,

Sec. 12, lot 1;

Sec. 13, lots 1 and 2;

Sec. 24, lots 1 and 2;

Sec. 25, lots 1 and 2;

Sec. 27, lot 1;

Sec. 28, lots 1 and 2;

Sec. 33, lots 1, 2, and 3;

Sec. 34, lots 1 and 2;

Sec. 35, lots 1 and 2;

Sec. 36, lots 1 and 2.

T. 6 S., R. 16 W.,

Secs. 18 thru 21 and Secs. 28 thru 33.

T. 7 S., R. 16 W.,

Tract A, that portion within (protracted) Secs. 4, 5, 8, 9, 16, 17, 20, and 21.

T. 11 S., R. 16 W.,

Tracts A and B.

T. 6 S., R. 17 W.,

Sec. 2, lots 1 thru 7;

Sec. 3, lots 1 thru 4;

Sec. 4, lots 1 thru 5;

Sec. 5, lots 1, 2, and 3;

Sec. 8, lots 1 thru 5;

Sec. 9, lots 1 thru 4;

Sec. 10, lots 1 and 2;

Sec. 11, lots 1 and 2;

Sec. 12, lots 1 and 2;

Secs. 13 thru 16;

Sec. 17, lots 1 thru 5;

Sec. 20, that portion lying outside the boundary of the National Petroleum Reserve;

Secs. 21 thru 27, and Secs. 34, 35, and 36.

T. 11 S., R. 17 W.,

Tract A, that portion within (protracted) Secs. 31 thru 36.

T. 12 S., R. 17 W.,

Tract A, that portion within (protracted) Secs. 1 thru 6;

Secs. 11 thru 14.

T. 11 S., R. 18 W.,

Tract A, that portion within (protracted) Sec. 36.

T. 12 S., R. 18 W.,

Tract A, that portion within (protracted) Sec. 1.

T. 9 S., R. 1 E.,

Secs. 16 thru 21 and Secs. 28, 29, and 30.

T. 10 S., Rs. 1 and 2 E.

T. 9 S., R. 3 E.,

Secs. 25 thru 36.

T. 10 S., R. 3 E.,

T. 9 S., R. 4 E.,

Secs. 25 thru 36.

T. 10 S., R. 4 E.

T. 12 S., R. 4 E.,

Sec. 8.

T. 3 S., R. 5 E.

T. 4 S., R. 5 E.,

Secs. 4 thru 9, Secs. 16 thru 21, and Secs. 28 thru 33.

T. 5 S., R. 5 E.,

Secs. 1 thru 6, Secs. 10 thru 15, Secs. 22 thru 27, and Secs. 34, 35 and 36.

T. 6 S., R. 5 E.,

Secs. 1, 2, and 3, Secs. 10 thru 15, Secs 22 thru 27, and Secs 34, 35 and 36.

T. 10 S., R. 5 E. unsurveyed.

T. 6 S., R. 6 E.,

Secs. 19 thru 36.

T. 10 S., R. 6 E., unsurveyed.

T. 9 S., R. 7 E.,

Secs. 7 thru 24.

T. 10 S., R. 7 E.

T. 12 S., R. 7 E.,

Secs. 11 thru 14, Secs. 21 thru 28, and Secs. 33 thru 36.

T. 13 S., R. 7 E.,

Secs. 1 thru 4 and Secs. 9 thru 13.

T. 9 S., R. 8 E.,

Secs. 7 thru 24.

T. 10 S., R. 8 E.

T. 11 S., R. 8 E.,

Secs. 11 thru 36.

T. 12 S., R. 8 E.

T. 2 S., R. 9 E.,

Secs. 1 thru 24.

T. 10 S., R. 9 E.

T. 11 S., R. 9 E.,

Secs. 7 thru 21 and Secs. 28 thru 33.

Secs. 28 thru 33.

T. 10 S., R. 10 E.,

Secs. 1 thru 6, Secs. 10 thru 15, and Secs. 22 thru 36.

T. 11 S., R. 10 E.,

Secs. 19, 20, and 21 and Secs. 28 thru 33.

T. 14 S., R. 10 E., unsurveyed,

Secs. 12, 13, 23, and 24, those portions lying outside the boundary of Gates of the Arctic National Preserve;

Sec. 25

Secs. 26, 34, and 35, those portions lying outside the boundary of Gates of the Arctic National Preserve;

Sec. 36.

T. 15 S., R. 10 E., unsurveyed,

Secs. 1 and 2;

Secs. 3, 8, 9, and 10, those portions lying outside the boundary of Gates of the Arctic National Preserve;

Secs. 11 thru 15;

Secs. 16, 17, and 20, those portions lying outside the boundary of Gates of the Arctic National Preserve;

Secs. 21 thru 28;

Secs. 29 and 30, those portions lying outside the boundary of Gates of the Arctic National Preserve;

Sec. 31, that portion lying outside the boundary of Gates of the Arctic National Park and Gates of the Arctic National Preserve;

Secs. 32 thru 36.

Tps. 9 and 10 S., R. 14 E., unsurveyed.

T. 14 S., R. 14 E., unsurveyed,

Sec. 36, that portion lying outside the boundary of Arctic National Wildlife Refuge.

T. 14 S., R. 15 E.,

Secs. 13, 21, 28, 29, 31, 32, and 33, those portions lying outside the boundary of Arctic National Wildlife Refuge, unsurveyed.

T. 14 S., R. 16 E., unsurveyed,

Secs. 3, 4, 5, 7, and 8, those portions lying outside the boundary of Arctic National Wildlife Refuge;

Sec. 9;

Secs. 10 thru 14, those portions lying outside the boundary of Arctic National Wildlife Refuge;

Secs. 15 and 16;

Secs. 17 and 18, those portions lying outside the boundary of Arctic National Wildlife Refuge;

Secs. 19 thru 23;

Sec. 24, that portion lying outside the boundary of Arctic National Wildlife Refuge;

Secs. 25 thru 36.

T. 15 S., R. 16 E., unsurveyed.

T. 14 S., R. 17 E.,

Secs. 9 and 10, and Secs. 14 thru 18, those portions lying outside the boundary of Arctic National Wildlife Refuge, unsurveyed;

Sec. 22, unsurveyed;

Secs. 23 and 26, those portions lying outside the boundary of Arctic National Wildlife Refuge, unsurveyed;

Sec. 27, unsurveyed;

Secs. 34 and 35, those portions lying outside the boundary of Arctic National Wildlife Refuge, unsurveyed.

T. 1 S., R. 18 E.,

Secs. 1, 2, and 3 and Secs. 10 thru 36.

T. 2 S., R. 18 E.,

Secs. 1 thru 12 and Secs. 15, 16 and 18.

T. 1 S., R. 19 E.,

Secs. 1 thru 12, Secs. 15 thru 22, and Secs. 29 thru 32.

The areas described aggregate approximately 11,163,252 acres.

2. At 8 a.m. Alaska time on December 23, 2024, the lands described in Paragraph 1 shall be open to allotment selection under the Allotment Program, subject to valid existing rights. All allotment applications that are free from substantive errors and received at or prior to 8 a.m. Alaska time on December 23, 2024 shall be considered as simultaneously received at 8 a.m. Alaska time. Those received thereafter shall be considered received in accordance with 43 CFR 2569.411.

3. No lands are opened by this order for any purpose other than allotment selection and possible conveyance under the Allotment Program.

(Authority: 43 U.S.C. 1714)

Deb Haaland,
Secretary of the Interior.

[FR Doc. 2024-27253 Filed 11-20-24; 8:45 am]

BILLING CODE 4331-10-P